DEPARTMENT OF JUSTICE

28 CFR Parts 35 and 36

Nondiscrimination on the Basis of Disability in State and Local Government Services and Nondiscrimination on the Basis of Disability by Public Accommodations and in Commercial Facilities; Hearing

AGENCY: Department of Justice, Civil Rights Division.

ACTION: Notice of hearing.

SUMMARY: On June 17, 2008, the Department of Justice (Department) published two Notices of Proposed Rulemaking in the Federal Register to amend regulations issued under Titles II and III of the Americans with Disabilities Act (ADA). Nondiscrimination on the Basis of Disability in State and Local Government Services, 73 FR 34466; Nondiscrimination on the Basis of Disability by Public Accommodations and in Commercial Facilities, 73 FR 34508. In this issue of the Federal Register, the Department published corrections for the proposed rules that included two appendices inadvertently omitted from the June 17, 2008, publication. In order to provide an opportunity for interested persons to express their views directly to Department officials, the Department will hold a public hearing in Washington, DC, on the proposed regulatory amendments.

DATES: The public hearing is scheduled for July 15, 2008, 9 a.m. to 5 p.m., Eastern Daylight Time.

ADDRESSES: The hearing will be held at the Marriott Hotel at Metro Center, 775 12th Street, NW., Washington, DC 20005, (202) 737-2200.

FOR FURTHER INFORMATION CONTACT: Linda Garrett, Civil Rights Program Specialist, Disability Rights Section, Civil Rights Division at (202) 353-0423 (TTY). This is not a toll-free number. Information also may be obtained from the Department's toll-free ADA Information Line at (800) 514-0301 (Voice) or (800) 514-0383 (TTY), 9:30 a.m. to 5:30 p.m. Monday, Tuesday, Wednesday, and Friday, and 12:30 p.m. to 5 p.m. on Thursday.

SUPPLEMENTARY INFORMATION: On June 17, 2008, the Department published two Notices of Proposed Rulemaking to amend the Department's regulations issued under Titles II and III of the ADA. Title II of the ADA prohibits discrimination on the basis of disability in the activities of State and local governments, whereas Title III prohibits discrimination in public accommodations and commercial facilities. The Department has scheduled a public hearing on the proposed amendments in order to provide an opportunity to interested persons, including individuals with disabilities, to express their views about the proposed changes. Entities, organizations, and individuals who wish to present comments at the hearing are encouraged to register in advance by calling the ADA Information Line at (800) 514-0301 (Voice) or (800) 514-0383 (TTY) by July 7, 2008. Organizations should designate no more than one individual to speak on behalf of the organization. Commenters who are not able to testify in person will have the option to present their comments using a speaker telephone, telephone relay service, or video relay service. The Department will attempt to provide an approximate time for the receipt of comments from those who register in advance; however, persons who register in advance should report to the registration desk at the hearing at least one-half hour prior to their scheduled time in order to confirm the time and order of their presentations. Those who register to comment via speaker telephone, telephone relay service, or video relay service should be available at the number they provided during pre-registration at least one-half hour before their scheduled time.

Some time at the hearing will be reserved for those who do not register in advance. These persons may register on-site at the registration desk, which will open one hour before the hearing is scheduled to begin and will operate throughout the day. Time to make their presentations will be assigned when open slots are available.

Comments will be limited to five minutes per person or organization, but commenters who wish to may supplement their testimony with written statements that will be made part of the official hearing record. If the Department determines that there is not enough time to hear from all those wishing to present comments, the Department will select among those wishing to testify in order to ensure representation of a range of viewpoints and interests. A laptop computer and projection screen will be available for commenters wishing to use a PowerPoint presentation in conjunction with their testimony.

The hearing site will be accessible to individuals with disabilities. Sign language interpreters, real-time captioning, and assistive listening devices will be provided. Individuals who require other accommodations, auxiliary aids, or foreign language translation should contact Linda Garrett at (202) 353-0423 (TTY) or by e-mail at Linda.Garrett@usdoj.gov no later than July 7, 2008. Additional information, including information about accessible public transportation and parking, will be available on the ADA Home Page at http://www.ada.gov. The proposed rules and the initial regulatory impact analysis are available electronically in accessible formats at http://www.regulations.gov and http://www.ada.gov. This hearing notice is available electronically in accessible formats at http://www.ada.gov, Copies of this notice also are available in formats accessible to individuals who are blind or have low vision and may be obtained by calling the ADA Information Line.

Those persons who are not able to participate in the public hearing are encouraged to submit written comments electronically to http://www.regulations.gov or by mail as follows: ADA NPRM, P.O. Box 2846, Fairfax, VA 22031-0846. Overnight deliveries should be sent to the Disability Rights Section, Civil Rights Division, U.S. Department of Justice, located at 1425 New York Avenue, NW., Suite 4039, Washington, DC 20005. All comments will be made available for public viewing online at http://www.regulations.gov and must be received by August 18, 2008.

Dated: June 19, 2008.
Grace Chung Becker,
Acting Assistant Attorney General for Civil Rights.

[FR Doc. E8-14306 Filed 6-27-08; 8:45 am]

BILLING CODE 4410-13-M